DEPARTMENT OF ENERGY

Carbon Dioxide Capture, Utilization, and Sequestration Federal Lands Permitting Task Force; Carbon Dioxide Capture, Utilization, and Sequestration Non-Federal Lands Permitting Task Force

AGENCY: Office of Fossil Energy and Carbon Management, Department of Energy.

ACTION: Notice of open meeting.

SUMMARY: The Department of Energy hereby publishes a notice of a joint open meeting of the Carbon Dioxide Capture, Utilization, and Sequestration Federal Lands Permitting Task Force and the Carbon Dioxide Capture, Utilization, and Sequestration Non-Federal Lands Permitting Task Force (CCUS Permitting Task Forces). The Federal Advisory Committee Act (FACA) requires that public notice of these meetings be announced in the Federal Register.

DATES: Wednesday, December 11, 2024; 9 a.m. to 5 p.m. eastern time. Start and end times may change slightly. Please visit https://www.energy.gov/fecm/use-it-act-carbon-dioxide-capture-utilization-and-sequestration-ccus-permitting-task-forces for the most up to date agenda.

ADDRESSES: This joint meeting of the CCUS Permitting Task Forces will be held in person at the U.S. Geologic Survey National Center, 12201 Sunrise Valley Drive, Reston, Virginia 20192, with the option of virtual attendance. Members of the public are encouraged to participate virtually, as physical space to attend onsite is limited to members. The website for the CCUS Permitting Task Forces will be updated with announcements about the meeting, including instructions for registering to attend virtually: https://www.energy.gov/fecm/use-it-act-carbon-dioxide-capture-utilization-and-sequestration-ccus-permitting-task-forces.

FOR FURTHER INFORMATION CONTACT: Christina Waldron, Designated Federal Officer, Fossil Energy and Carbon Management, U.S. Department of Energy, Washington, DC 20585; Telephone: (771) 217-0877 or Email: doe.ccus.permitting.task.force@hq.doe.gov.

SUPPLEMENTARY INFORMATION: In April 2024, Department of Energy (DOE) and the Council on Environmental Quality (CEQ) chartered and appointed members for two new CCUS Permitting Task Forces as required by the Utilizing Significant Emissions with Innovative Technologies (USE IT) Act and in accordance with FACA. The purpose of each Task Force is the same, but the scope differs by geographical area—one Task Force focuses on Federal lands and the Outer Continental Shelf, and the other focuses on non-Federal lands.

Purpose of the Committee: The purpose of the Task Forces is to identify permitting and other challenges and successes that permitting authorities and project developers and operators face in permitting projects in an efficient, orderly, and responsible manner; and improve the performance of the permitting process and regional coordination for the purpose of promoting the efficient, orderly, and responsible development of carbon capture, utilization, and sequestration projects and carbon dioxide pipelines.

To accomplish these objectives, the USE IT Act requires each Task Force to undertake the following activities with respect to its geographic scope: (1) inventory existing or potential Federal and State approaches to facilitate reviews associated with the deployment of carbon capture, utilization, and sequestration projects and carbon dioxide pipelines, including best practices that avoid duplicative reviews to the extent permitted by law, engage stakeholders early in the permitting process, and make the permitting process efficient, orderly, and responsible; (2) develop common models for State-level carbon dioxide pipeline regulation and oversight guidelines that can be shared with States in the geographical area covered by the Task Force; (3) provide technical assistance to States in the geographical area covered by the Task Force in implementing regulatory requirements and any models developed under (2) above; (4) inventory current or emerging activities that transform captured carbon dioxide into a product of commercial value, or as an input to products of commercial value; (5) identify any priority carbon dioxide pipelines needed to enable efficient, orderly, and responsible development of carbon capture, utilization, and sequestration projects at increased scale; (6) identify gaps in the current Federal and State regulatory framework and in existing data for the deployment of carbon capture, utilization, and sequestration projects and carbon dioxide pipelines; (7) identify Federal and State financing mechanisms available to project developers; and (8) develop recommendations for relevant Federal agencies on how to develop and research technologies that can capture carbon dioxide and would be able to be deployed within the region covered by the Task Force, including any projects that have received technical or financial assistance for research under paragraph (6) of section 103(g) of the Clean Air Act (42 U.S.C. 7403(g)).

In carrying out these activities to support the efficient, effective, and responsible permitting of CCUS projects, the Task Forces shall also consider and develop recommendations to address community concerns regarding the climate benefits and environmental justice implications, including public health and safety, of CCUS. In the development of these recommendations, the Task Forces shall consider and identify recommended mechanisms to ensure just treatment and meaningful involvement of impacted communities.

Tentative Agenda

• Opening remarks

• Presentations on Task Forces' progress on USE IT Act duties

• Public comment period

• Closing remarks

To view the final agenda when available, or for additional information about the Task Forces, the meeting, and the prior meeting of the Task Forces, see the CCUS Permitting Task Forces website at: https://www.energy.gov/fecm/use-it-act-carbon-dioxide-capture-utilization-and-sequestration-ccus-permitting-task-forces.

Public Participation: The meeting is open to the public via webcast. The website will be updated with instructions and links to register for the meeting. All attendees are required to register in advance. If you would like to file a written statement with either Task Force, you may do so either before or after the meeting. If you would like to make oral statements regarding any of the items on the agenda, please send an email request to Christina Waldron at doe.ccus.permitting.task.force@hq.doe.gov. You must make your request for an oral statement by Wednesday, December 4, 2024, at 11:59 a.m. ET. Reasonable provision will be made to include the scheduled oral statements on the agenda. Time allotted per speaker will depend on the number who wish to speak but is not expected to exceed three minutes. The Chairpersons of the Task Forces will conduct the meeting to facilitate the orderly conduct of business.

Minutes: The minutes of this meeting will be available for public review within 45 days at the website of the CCUS Permitting Task Forces at: https://www.energy.gov/fecm/use-it-act-carbon-dioxide-capture-utilization-and-sequestration-ccus-permitting-task-forces. They can also be obtained by contacting Ms. Christina Waldron using the contact information above.

Signing Authority: This document of the Department of Energy was signed on November 12, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on November 13, 2024.
Treena V. Garrett,
Federal Register Liaison Officer, U.S. Department of Energy.

[FR Doc. 2024-26775 Filed 11-15-24; 8:45 am]

BILLING CODE 6450-01-P